NUCLEAR REGULATORY COMMISSION

10 CFR Part 50

RIN 3150-A101

Alternate Fracture Toughness Requirements for Protection Against Pressurized Thermal Shock Events; Reopening of Comment Period for Information Collection

AGENCY: Nuclear Regulatory Commission.

ACTION: Proposed rule: Reopening of comment period for information collection.

SUMMARY: The Nuclear Regulatory Commission (NRC) is reopening the comment period specific to the information collection aspects of a proposed rule published on October 3, 2007 (72 FR 56275), that would amend NRC's regulations to provide updated fracture toughness requirements for protection against pressurized thermal shock (PTS) events for pressurized water reactor (PWR) pressure vessels. The comment period for comments specific to the information collection aspects of the proposed rule, closed on November 2, 2007.

DATES: The comment period for comments specific to the information collection aspects of the proposed rule is reopened and now closes on December 17, 2007. Comments received after this date will be considered if it is practical to do so, but the Commission is able to ensure consideration only for comments received before this date.

ADDRESSES: Send comments on any aspect of the proposed information collections, including suggestions for reducing the burden and on the issues mentioned in the October 3, 2007, rulemaking, by December 17, 2007, to the Records and FOIA/Privacy Services Branch (T-5 F52), U.S. Nuclear Regulatory Commission, Washington, DC 20555-0001, or by Internet electronic mail to INFOCOLLECTS@NRC.GOV and to the Desk Officer, Office of Information and Regulatory Affairs, NEOP-10202, (3150-0011), Office of Management and Budget, Washington, DC 20503.

FOR FURTHER INFORMATION CONTACT: Harry Tovmassian, Office of Nuclear Reactor Regulation, U.S. Nuclear Regulatory Commission, Washington, DC 20555-0001, telephone (301) 415-3092, e-mail hst@nrc.gov.

SUPPLEMENTARY INFORMATION: On October 3, 2007 (72 FR 56275), the Nuclear Regulatory Commission (NRC) published for public comment a proposed rule that would amend its regulations to provide updated fracture toughness requirements for protection against PTS events for PWR pressure vessels. The proposed rule would provide new PTS requirements based on updated analysis methods. This action is desirable because the existing requirements are based on unnecessarily conservative probabilistic fracture mechanics analysis. This action would reduce regulatory burden for licensees, specifically those licensees that expect to exceed the existing requirements before the expiration of their licenses, while maintaining adequate safety. These new requirements would be voluntarily used by any PWR licensee as an alternative to complying with the existing requirements.

The NRC received several requests from public stakeholders to extend the comment period for the information collection aspects of the proposed rule. The comment period for the information collection is being reopened and now closes on December 17, 2007.

Dated at Rockville, Maryland, this 15th day of November 2007.
For the Nuclear Regulatory Commission.
Annette L. Vietti-Cook,
Secretary of the Commission.

[FR Doc. E7-22761 Filed 11-20-07; 8:45 am]

BILLING CODE 7590-01-P